SECURITIES AND EXCHANGE COMMISSION

Sunshine Act Meeting

Notice is hereby given, pursuant to the provisions of the Government in the Sunshine Act, Pub. L. 94-409, that the Securities and Exchange Commission will hold the following meetings during the week of July 21, 2003: Closed Meetings will be held on Tuesday, July 22, 2003 at 2 p.m. and Thursday, July 24, 2003 at 3 p.m., and an Open Meeting will be held on Thursday, July 24, 2003 at 2 p.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (9)(B) and (10) and 17 CFR 200.402(a)(3), (5), (7), (9)(ii) and (10), permit consideration of the scheduled matters at the Closed Meetings.

The subject matter of the Closed Meeting scheduled for Tuesday, July 22, 2003 will be:

Institution and settlement of administrative proceedings of an enforcement nature;

Institution and settlement of injunctive actions;

Formal order of investigation; and

Opinions.

The subject matter of the Open Meeting scheduled for Thursday, July 24, 2003 will be:

1. The Commission will hear oral argument on an appeal by Robert M. Fuller, a former Chairman of the Board of Directors and Executive Vice-President for Investor Relations of Vista 2000, Inc. (“Vista”), from an administrative law judge's initial decision.

The law judge found that Fuller caused Vista to violate Section 17(a) of the Securities Act of 1933, sections 10(b) and 13(a) of the Securities Exchange Act of 1934, and Exchange Act Rules 10b-5, 13a-1, and 12b-20. The law judge ordered Fuller to cease and desist from committing or causing any violations or future violations of these provisions.

The Commission will consider the following issues:

a. Whether Fuller caused Vista to commit the alleged violations; and

b. If so, whether the imposition of a cease-and-desist order is appropriate and in the public interest.

The subject matter of the Closed Meeting scheduled for Thursday, July 24, 2003 will be: Post-argument discussion.

At times, changes in Commission priorities require alterations in the scheduling of meeting items. For further information and to ascertain what, if any, matters have been added, deleted, or postponed, please contact the Office of the Secretary at (202) 942-7070.

Dated: July 15, 2003.
Jill M. Peterson,
Assistant Secretary.

[FR Doc. 03-18395 Filed 7-15-03; 4:48 pm]

BILLING CODE 8010-01-P